DEPARTMENT OF THE INTERIOR

Fish and Wildlife Service

[FWS-R1-R-2012-N095; 1265-0000-10137-S3]

Bear Lake National Wildlife Refuge, Bear Lake County, ID and Oxford Slough Waterfowl Production Area, Franklin and Bannock Counties, ID; Draft Comprehensive Conservation Plan and Environmental Assessment

AGENCY: Fish and Wildlife Service, Interior.

ACTION: Notice of availability; request for comments.

SUMMARY: We, the U.S. Fish and Wildlife Service (Service), announce the availability of our draft comprehensive conservation plan and environmental assessment (Draft CCP/EA) for the Bear Lake National Wildlife Refuge (NWR, Refuge), 7 miles south of Montpelier, Idaho; the Refuge-managed Thomas Fork Unit (Unit) in Montpelier; and the Oxford Slough Waterfowl Production Area (WPA) in Oxford, Idaho, for public review and comment. The Draft CCP/EA describes our proposal for managing the Refuge for the next 15 years.

DATES: To ensure consideration, we need to receive your written comments by October 29, 2012.

ADDRESSES: You may submit comments, requests for more information, or requests for copies by any of the following methods. You may request a hard copy or a CD-ROM of the documents.

Email: FW1PlanningComments@fws.gov. Include “Bear Lake NWR CCP” in the subject line.

Fax: Attn: Annette de Knijf, Refuge Manager, 208-847-1757.

U.S. Mail: Annette de Knijf, Refuge Manager, Bear Lake NWR, Box 9, Montpelier, ID 83254.

Web site: http://www.fws.gov/bearlake/refuge_planning.html; select “Contact Us.”

In-Person Drop-off, Viewing or Pickup: You may drop off comments during regular business hours at Refuge Headquarters at 322 North 4th St. (Oregon Trail Center), Montpelier, ID.

FOR FURTHER INFORMATION CONTACT: Annette de Knijf, Refuge Manager, 208-847-1757.

SUPPLEMENTARY INFORMATION:

Introduction

With this notice, we continue the CCP process at Bear Lake NWR and Oxford Slough WPA. We started this process through a notice in the Federal Register (75 FR 35829; June 23, 2010).

Bear Lake National Wildlife Refuge

Bear Lake NWR was established in 1968 and is located in Bear Lake County, near the community of Montpelier, in southeast Idaho. The Refuge lies in Bear Lake Valley at approximately 5,925 feet in elevation in the historic location of Dingle Swamp. The Thomas Fork Unit is a 1,015-acre tract of land managed by the Refuge and situated at an elevation of 6,060 feet, approximately 20 miles east of Montpelier, Idaho, along U.S. Hwy. 30, near Border, Wyoming. The Unit's eastern boundary is the Wyoming State line. It contains upland and wet meadows used by sandhill cranes, and stream habitat important to the conservation of Bonneville cutthroat trout.

The Refuge is composed of a 16,000-acre emergent marsh, 1,200 acres of uplands, 550 acres of wet meadows, and 5 miles of riparian streams. Approximately 100 species of migratory birds nest at Bear Lake NWR, including large concentrations of colonial waterbirds, and many other species of wildlife utilize the Refuge during various periods of the year. In the early 1900s, the Telluride Canal Company substantially modified the natural hydrology of the former Dingle Swamp by diverting Bear River to flow into Bear Lake for irrigation storage. The indirect effects were numerous and significantly altered the hydrology and ecological processes of the Bear Lake Watershed.

Oxford Slough Waterfowl Production Area

Oxford Slough is the only waterfowl production area in the Service's Pacific Northwest region. It is located 10 miles north of Preston, Idaho, abutting the small town of Oxford in the Cache Valley. Oxford Slough is the drainage for Oxford and Deep Creeks, as well as other streams and creeks in the surrounding mountain ranges. Oxford Slough WPA provides valuable foraging habitat for species such as cranes, geese, Franklin's gulls, and white-faced ibis, and nesting habitat for many shorebird species.

Background

The CCP Process

The National Wildlife Refuge System Administration Act of 1966 (16 U.S.C. 668dd-668ee) (Refuge Administration Act), as amended by the National Wildlife Refuge System Improvement Act of 1997, requires us to develop a CCP for each national wildlife refuge. The purpose for developing a CCP is to provide refuge managers with a 15-year plan for achieving refuge purposes and contributing toward the mission of the National Wildlife Refuge System (NWRS), consistent with sound principles of fish and wildlife management, conservation, legal mandates, such as the National Environmental Policy Act, and our policies. In addition to outlining broad management direction on conserving wildlife and their habitats, CCPs identify compatible wildlife-dependent recreational opportunities available to the public, including opportunities for hunting, fishing, wildlife observation and photography, and environmental education and interpretation. We will review and update the CCP at least every 15 years in accordance with the Refuge Administration Act.

Public Outreach

We began public outreach in June 2010 by publishing a Notice of Intent in the Federal Register announcing our intent to prepare a CCP/EA and inviting public comments; in addition, we distributed Planning Update 1 to our mailing list and public outlets. On July 1, 2010, we held a public scoping meeting in Montpelier, Idaho, to meet with the public and obtain comments. The meeting was announced through local media outlets, on the Refuge's Web site, and in Planning Update 1. The initial public scoping period ended on July 23, 2010, and all comments were considered and evaluated. In November 2010, we distributed Planning Update 2, which included a summary of the comments we received, a planning schedule, and a description of the CCP's scope.

CCP Alternatives We Are Considering

During the public scoping process, we, along with other governmental agencies, Tribes, and the public, raised several issues which our Draft CCP/EA addresses. To address these issues, we developed and evaluated the following alternatives, summarized below:

Alternative 1 (No-Action)

This alternative represents current management.

Wildlife and Habitat: Under Alternative 1, the current emphasis on consistent availability of quality wetlands and croplands would continue. High-quality marsh habitat would continue to be provided for waterfowl and colonial waterbirds. Management would primarily occur on Refuge lands, but the Refuge would continue to seek cooperative agreements and partnerships to improve habitats and promote the application of best management practices for farming, haying, pesticide application, and water management.

The Refuge's meadows and uplands would be cooperatively hayed and farmed to provide forage and short-grass habitat for migratory birds such as the sandhill crane and Canada goose. Farming would occur on approximately 214 acres annually at Bear Lake, Thomas Fork, and Oxford Slough WPA. Approximately 3,500 acres of wet meadow, upland meadow, and shallow emergent habitat (including about 90 percent of meadow habitat at Bear Lake NWR) would be hayed annually to provide green browse for migratory birds and other wildlife.

Public Use: Bear Lake NWR and Oxford Slough WPA would remain open to public use. The Thomas Fork Unit would remain closed to all public use. 7,450 acres (40 percent) of Bear Lake NWR would be open for waterfowl hunting during the State season. Two accessible hunting blinds would continue to be available at Bear Lake NWR from October to January. To facilitate waterfowl hunting, motorized and non-motorized boats would still be allowed September 20 to January 15 in the Salt Meadow, the Rainbow Sub-Impoundment, and the Rainbow Units, as well as in the Merkley Lake Unit, and the Mud Lake Unit as far south as the buoys. The Refuge would remain open for small game and upland bird hunting (gray partridge, grouse, ring-necked pheasant, and cottontails). On Bear Lake NWR, the Outlet Canal north of the former Paris Dike and Paris Dike south to its former location, and the area north of the Lifton Pumping Station would remain open to pole-and-line fishing for carp, perch, and trout, and bow fishing for carp. Oxford Slough WPA would remain open to hunting and trapping in accordance with State regulations. There are no fishing opportunities at the WPA.

Alternative 2

Wildlife and Habitat: This alternative would decrease emphasis on waterfowl production, and increase emphasis on maximizing all waterbird productivity, through intensively manipulating seasonal water levels to mimic the varied hydrology of the historic Dingle Swamp. The Refuge would still provide sizeable emergent marsh habitats for waterfowl and colonial birds through the summer and fall, but there would be a substantial increase in temporarily flooded (spring and fall) wetlands. All grain farming (214 acres) and haying (3,533 acres) would be discontinued in the first year (2013) of CCP implementation. Former cropland and hayed areas would be restored to native wet meadow or grassland communities and flooded in spring and fall to provide seasonal and temporary wetlands for waterbirds. The Refuge would study the feasibility of reducing sediment loads in the Mud Lake Complex and make recommendations by 2020 to reduce the sedimentation rate of Bear River water diversions and to better exclude carp from Refuge wetlands. Upland and riparian management activities would increase considerably from Alternative 1.

Public Use: On Bear Lake NWR, increased emphasis would be placed on nonconsumptive, compatible wildlife-dependent recreation compared to Alternative 1, while making modest improvements to hunting and fishing opportunities. Bear Lake NWR hunting areas would alternate every five years from the east side (current hunt area, 7,450 acres) to the west side of the Outlet Canal (the Bloomington and Bunn Lake units, currently closed to hunting, 5,800 acres). An additional accessible hunting blind (3 total) and increased Youth Hunt opportunities would be provided. Upland hunting would continue as in Alternative 1. Fishing opportunities would be increased by allowing boat access to the Mud Lake Unit from September 1 until freeze-up. Improved signage and small piers or fishing platforms would be constructed along the Outlet Canal north of the Paris Dike. As in Alternative 1, the Thomas Fork Unit would remain closed to all public access, and Oxford Slough WPA would remain open to hunting and trapping.

Within 5 years of CCP completion, plans for a combined Refuge office and visitor contact station on or near the Refuge would be completed, and funding would be sought to construct these facilities. Up to eight vehicle turnouts with interpretive panels would be constructed along Merkley Lake Road, overlooking the Mud Lake Unit. A boardwalk and observation platform would be constructed on the southeast border of the Refuge along North Beach Road. A step-down plan for these facilities would be completed within 2 years of CCP completion. A new staff position would be dedicated to public outreach, and developing and delivering on-site interpretive and environmental education programs to local schools and community groups.

Alternative 3 (Preferred Alternative)

Wildlife and Habitat: Alternative 3, the Service's Preferred Alternative, would emphasize partially restoring long-term habitat function, providing an acceptable range of natural habitat variability, increasing habitat resilience in the face of external stress, and increasing the long-term vigor of wildlife populations. While the Refuge would continue to provide breeding and fall migration habitat for waterfowl, the emphasis would be on providing a range of habitats, not only for waterfowl, but other migratory waterbirds. Management actions and water-level manipulations would simulate natural “drought,” “normal,” or “flood” scenarios, and provide a variety of permanent, semi-permanent, seasonal, and temporary wetland habitats. The acreage of each habitat would vary annually within each unit, but the total Refuge acreage of each habitat would remain the same from year to year. Compared to Alternative 1, there would be a moderate increase in spring and fall seasonal and moist soil wetland habitats. Approximately 154 acres of small grain and legume crops would continue to be cultivated for waterfowl and other key wildlife species. Haying would be reduced to 1,492 acres (44 percent of current hayed acres), and 2,041 acres of previously hayed habitats would be restored or rehabilitated to native wet meadow or upland grass habitats by 2027. The Refuge would phase the reduction in haying over three 5-year cycles: 2013-2017; 2018-2022; and 2023-2027. An approximate 60:40 ratio of hayed-to-unhayed meadow would be managed for goose brooding and foraging areas. As in Alternative 2, the Refuge would study the feasibility of reducing sediment loads in the Mud Lake Complex and make recommendations by 2020 to reduce the sedimentation rate of Bear River water diversions and better exclude carp from Refuge wetlands. As in Alternative 2, upland and riparian management activity would increase considerably from Alternative 1.

Hunting and Fishing: The waterfowl and upland hunting program at Bear Lake NWR would continue to be managed as described in Alternative 1. Compatible fishing opportunities would be expanded through construction of improved signage and small piers or fishing platforms along the Outlet Canal north of the Paris Dike. Fishing would also be allowed from the banks along Merkley Lake Road, consistent with State regulations. As in Alternatives 1 and 2, the Thomas Fork Unit would remain closed to all public access, but compatible hunting and trapping would remain open at Oxford Slough WPA.

Opportunities for observation and education would improve as additional facilities are developed, and a more diverse array of wetland habitats allows a wider variety of waterbirds and other species to flourish. Two turn-out parking areas (one with an observation platform and spotting scope) would be constructed along Merkley Lake Road, above the Mud Lake Unit. As in Alternative 2, a boardwalk and viewing platform would be constructed on the southeast border of the Refuge along North Beach Road; plans for a combined Refuge office and visitor contact station on or near the Refuge would be completed within 5 years of CCP completion, and funding would be sought to construct these facilities; a new staff position would be dedicated to public outreach, and developing and delivering on-site interpretive and environmental education programs to local schools and community groups.

Public Availability of Documents

In addition to the information in ADDRESSES, you can view copies of the Draft CCP/EA on the Internet at http://www.fws.gov/bearlake/refuge_planning.html, and printed copies will be available for review at the following libraries: Bear Lake County Library, 138 North 6th Street, Montpelier, ID 83254; Larsen-Sant Public Library, 109 South 1st East, Preston, ID 83263.

Next Steps

After this comment period ends, we will analyze the comments and address them in a final CCP and decision document.

Public Availability of Comments

Before including your address, phone number, email address, or other personal identifying information in your comment, you should be aware that your entire comment—including your personal identifying information—may be made publicly available at any time. While you can ask us in your comment to withhold your identifying information from the public, we cannot guarantee that we will be able to do so.

Dated: May 3, 2012.
Jason Holm,
Acting Regional Director, Pacific Region, Portland, Oregon.

[FR Doc. 2012-23676 Filed 9-27-12; 8:45 am]

BILLING CODE 4310-55-P